ENVIRONMENTAL PROTECTION AGENCY

[ER-FRL-8991-7]

Environmental Impacts Statements; Notice of Availability

Responsible Agency: Office of Federal Activities, General Information (202) 564-1399 or http://www.epa.gov/compliance/nepa/.

Weekly Receipt of Environmental Impact Statements

Filed 07/23/2010 through 07/23/2010.

Pursuant to 40 CFR 1506.9.

Notice:In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100271, Final EIS, USN, GU, Guam and Commonwealth of the Northern Mariana Islands (CNMI) Military Relocation, Proposed Relocating Marines from Okinawa, Visiting Aircraft Carrier Berthing, and Army Air and Missile Defense Task Force, Implementation, GU, Wait Period Ends: 08/26/2010, Contact: Kyle Fujimoto, 808-472-1442.

EIS No. 20100272, Final EIS, BLM, CA, Imperial Valley Solar Project, (Formerly Known as Stirling Energy Systems (SES) Solar 2 Project), Construct and Operate, Electric-Generating Facility, Imperial Valley, Imperial County, CA, Wait Period Ends: 08/26/2010, Contact: Jim Stobaugh, 775-861-6478.

Dated: July 23, 2010.
Ken Mittleholtz,
Deputy Director, NEPA Compliance Division, Office of Federal Activities.

[FR Doc. 2010-18550 Filed 7-27-10; 8:45 am]

BILLING CODE 6560-50-P